DEPARTMENT OF ENERGY

Bonneville Power Administration

BP Cherry Point Cogeneration Project

AGENCY: Bonneville Power Administration (Bonneville), Department of Energy (DOE).

ACTION: Notice of availability of Record of Decision (ROD).

SUMMARY: This notice announces the availability of the ROD to implement the proposed action identified in the BP Cherry Point Cogeneration Project Final Environmental Impact Statement (FEIS) (DOE/EIS-0349, August 2004). Under the proposed action, Bonneville will offer contract terms for interconnection of the BP Cherry Point Cogeneration Project (Project) with the Federal Columbia River Transmission System (FCRTS), as requested by BP West Coast Products, LLC (BP) and proposed in the FEIS. Under that contract, Bonneville and BP will jointly construct a switchyard at the Project site, and Bonneville will construct a 230-kilovolt transmission line to connect the Project to the FCRTS (0.8 miles of new construction, and about 5 miles involving reconstruction of an existing transmission line). Bonneville also has decided to offer separate contract terms for firm transmission services from the point of interconnection to the Mid-Columbia trading hub in central Washington (400 megawatts) and to John Day Substation in north central Oregon (200 megawatts).

ADDRESSES: Copies of the ROD and EIS may be obtained by calling BPA's toll-free document request line, 1-800-622-4520. The ROD and EIS Summary are also available on our Web site, http://www.efw.bpa.gov.

FOR FURTHER INFORMATION, CONTACT: Thomas C. McKinney, Bonneville Power Administration-KEC-4, P.O. Box 3621, Portland, Oregon, 97208-3621; toll-free telephone number 1-800-282-3713; fax number 503-230-5699; or e-mail tcmckinney@bpa.gov.

SUPPLEMENTARY INFORMATION: The proposed Project involves constructing and operating a new 720-megawatt (MW) natural gas-fired, combined-cycle power generation facility at a 265-acre site adjacent to BP's existing Cherry Point Refinery between Ferndale and Blaine in northwestern Whatcom County, Washington. A new switchyard would be constructed at the Project site, connecting to a new 230-kilovolt (kV) double-circuit transmission line 0.8 miles east to Bonneville's existing 230-kV Custer-Intalco No. 2 transmission line. From there, Bonneville would add another 230-kV circuit to Custer Substation by rebuilding the single-circuit Custer-Intalco No. 2 line to double-circuit, a distance of about 5 miles.

A Large Generation Interconnection Agreement with BP would provide for interconnection of the BP Cherry Point Cogeneration Project with the FCRTS and electrical generation in the Bonneville Control Area. The agreement also would provide for construction of interconnection facilities (i.e., adding or modifying electrical equipment at the Cherry Point Switchyard and at Custer and/or Intalco Substations, and/or rebuilding the Custer-Intalco No. 2 transmission line) and continued operations and maintenance of interconnection equipment at BP expense.

Issued in Portland, Oregon, on November 10, 2004.
Stephen J. Wright,
Administrator and Chief Executive Officer.

[FR Doc. 04-25914 Filed 11-22-04; 8:45 am]

BILLING CODE 6450-01-P